DEPARTMENT OF COMMERCE

National Oceanic and Atmospheric Administration

50 CFR Part 660

[Docket No. 120814338-2711-02]

RIN 0648-BD47

Magnuson-Stevens Act Provisions; Fisheries Off West Coast States; Biennial Specifications and Management Measures; Inseason Adjustments

AGENCY: National Marine Fisheries Service (NMFS), National Oceanic and Atmospheric Administration (NOAA), Commerce.

ACTION: Final rule; inseason adjustments to biennial groundfish management measures.

SUMMARY: This final rule announces inseason changes to management measures in the Pacific Coast groundfish fisheries. This action, which is authorized by the Pacific Coast Groundfish Fishery Management Plan (PCGFMP), is intended to allow fisheries to access more abundant groundfish stocks while protecting overfished and depleted stocks.

DATES: Effective 0001 hours (local time) August 13, 2013.

FOR FURTHER INFORMATION CONTACT: Gretchen Hanshew (Northwest Region, NMFS), phone: 206-526-6147, fax: 206-526-6736, gretchen.hanshew@noaa.gov.

SUPPLEMENTARY INFORMATION:

Electronic Access

This final rule is accessible via the Internet at the Office of the Federal Register's Web site at http://www.gpo.gov/fdsys/search/home.action. Background information and documents are available at the Pacific Fishery Management Council's Web site at http://www.pcouncil.org/.

Background

The PCGFMP and its implementing regulations at title 50 in the Code of Federal Regulations (CFR), part 660, subparts C through G, regulate fishing for over 90 species of groundfish off the coasts of Washington, Oregon, and California. Groundfish specifications and management measures are developed by the Pacific Fishery Management Council (Council), and are implemented by NMFS.

On November 14, 2012, NMFS published a proposed rule to implement the 2013-2014 harvest specifications and management measures for most species of the Pacific Coast groundfish fishery (77 FR 67974). The final rule to implement the 2013-2014 harvest specifications and management measures for most species of the Pacific Coast Groundfish Fishery was published on January 3, 2013 (78 FR 580).

The Council, in consultation with Pacific Coast Treaty Indian Tribes and the States of Washington, Oregon, and California, recommended the changes to current groundfish management measures at its June 18-June 25, 2013 meeting. Management measures are designed to meet two primary goals: To achieve, to the extent possible, but not exceed, annual catch limits (ACLs) of target species; and to foster the rebuilding of overfished stocks by keeping harvest within their rebuilding ACLs. The Council recommended adjusting groundfish management measures to respond to updated fishery information and additional inseason management needs. Those changes to management measures are implemented in this action. The adjustments to fishery management measures are not expected to result in greater impacts to overfished species, except for bocaccio, than originally projected through the end of the year.

Fishery Management Measures for the Limited Entry Fixed Gear (LEFG) and Open Access (OA) Sablefish Daily Trip Limit (DTL) Fisheries North of 36° N. Lat.

To increase harvest opportunities for the LEFG and OA fixed gear sablefish DTL fisheries north of 36° N. lat., the Council considered increases to trip limits. The Council's Groundfish Management Team (GMT) made model-based landings projections for the LEFG and OA fixed gear sablefish DTL fisheries north of 36° N. lat. for the remainder of the year. These projections were based on the most recent information available. The model predicted harvest of 84 percent (165 mt) of the LEFG harvest guideline (197 mt) and 82 percent (239 mt) of the OA harvest guideline (291 mt) under current trip limits. With the increase in trip limits, predicted harvest is 94 percent (185 mt) of the LEFG harvest guideline (197 mt) and 94 percent (274 mt) of the OA harvest guideline (291 mt). Projections for the fixed gear sablefish fisheries south of 36° N. lat. were tracking within their targets and no inseason actions were considered.

Therefore, the Council recommended and NMFS is implementing trip limit changes for the LEFG and the OA sablefish DTL fisheries north of 36° N. lat. The trip limits for sablefish in the LEFG fishery north of 36° N. lat. increase from “950 lb (431 kg) per week, not to exceed 2,850 lb (1,293 kg) per two months” to “1,110 lb (499 kg) per week, not to exceed 3,300 lb (1,497 kg) per two months” beginning in period 4 through the end of the year.

The trip limits for sablefish in the OA sablefish DTL fishery north of 36° N. lat. are increased from “300 lb (136 kg) per day, or one landing per week of up to 700 lb (318 kg), not to exceed 1,400 lb (635 kg) per two months” to “300 lb (136 kg) per day, or one landing per week of up to 800 lb (363 kg), not to exceed 1,600 lb (726 kg) per two months” beginning in period 4 through the end of the year.

Limited Entry Fixed Gear (LEFG) Fishery Trip Limits for Shortspine Thornyhead North of 34°27′ N. Lat.

To increase harvest opportunities for the LEFG fishery north of 34°27′ N. lat., the Council considered an increase to the two-month cumulative limits for shortspine thornyhead in the LEFG fishery. The Council's GMT made model-based landings projections of the LEFG fishery north of 34°27′ N. lat. for the remainder of the year. These projections were based on the most recent information available under the current trip limit scenario. The model results predicted a harvest projection of 81 percent (60 mt) of the LEFG harvest guideline (74 mt) under the status quo trip limits. Landings projections with the proposed increased trip limits predict a harvest of 94 percent (70 mt) of the LEFG harvest guideline (74 mt).

Therefore, the Council recommended and NMFS is implementing trip limit increases for shortspine thornyhead in the LEFG fishery north of 34°27′ N. lat. The trip limits increased from “2,000 lb (907 kg) per two months” to “2,500 lb (1134 kg) per two months” beginning in period 4 through the end of the year.

Limited Entry Fixed Gear (LEFG) Fishery Trip Limits for Shelf Rockfish South of 34°27′ N. Lat.

The Council received an industry request to increase the LEFG shelf rockfish trip limits south of 34°27′ N. lat. Trip limits for shelf rockfish include species in the minor shelf rockfish complex, yellowtail rockfish, shortbelly rockfish and widow rockfish. The minor shelf rockfish complex, including yellowtail rockfish, south of 40°10′ N. lat., and shortbelly rockfish have not been fully harvested in recent years. Widow rockfish has also not been fully harvested in the non-trawl fisheries in recent years. West Coast Groundfish Observer Program data indicate very few encounters with overfished species and California state fish ticket data indicate that very few vessels actually attained full trip limits for shelf rockfish between 2008 and 2012.

Based on these data, the GMT estimated that landings would increase by approximately 0.5 metric tons, to a total of 2.1 metric tons. This modest increase in trip limits for shelf rockfish is not expected to result in an overharvest of any species as a result of this request.

Therefore, the Council recommended and NMFS is implementing increased trip limits for shelf rockfish in the LEFG fishery south of 34°27′ N. lat., from “3,000 lb (1361 kg) per two months” to “4,000 lb (1814 kg) per two months” beginning in period 4 through the end of the year.

Limited Entry Fixed Gear (LEFG) and Open Access (OA) Fishery Trip Limits for Bocaccio South of 34°27′ N. Lat.

There are increased encounters with bocaccio south of 34°27′ N. lat. resulting from a very strong year class entering the fishery. In order to reduce unnecessary discarding as a result of increased encounters with the new year-class entrants, industry submitted a request to the Council to raise the two-month cumulative limits for bocaccio south of 34°27′ N. lat. The estimated take of bocaccio would increase by approximately 1.1 metric tons, which is well within the non-trawl bocaccio allocation south of 40°10′ N. lat.

Therefore, the Council recommended and NMFS is implementing trip limit changes for bocaccio in the LEFG and the OA fixed gear fishery south of 34°27′ N. lat. The trip limits for bocaccio in the LEFG fishery south of 34°27′ N. lat. are increased from “300 lb (136 kg) per two months” to “500 lb (227 kg) per two months” beginning in period 4 through the end of the year. The trip limits for bocaccio in the OA fishery south of 34°27′ N. lat. are increased from “100 lb (45 kg) per two months” to “200 lb (91 kg) per two months” beginning in period 4 through the end of the year.

Classification

This final rule makes routine inseason adjustments to groundfish fishery management measures, based on the best available information, consistent with the PCGFMP and its implementing regulations.

This action is taken under the authority of 50 CFR 660.60(c) and is exempt from review under Executive Order 12866.

The aggregate data upon which these actions are based are available for public inspection at the Office of the Administrator, Northwest Region, NMFS, during business hours.

For the following reasons, NMFS finds good cause to waive prior public notice and comment on the revisions to groundfish management measures under 5 U.S.C. 553(b) because notice and comment would be impracticable and contrary to the public interest. Also, for the same reasons, NMFS finds good cause to waive the 30-day delay in effectiveness pursuant to 5 U.S.C. 553(d)(3), so that this final rule may become effective August 13, 2013.

At the June Council meeting, the Council recommended that these changes be implemented as quickly as possible during the July-August two-month cumulative limit period. There was not sufficient time after that meeting to draft this document and undergo proposed and final rulemaking before these actions need to be in effect. For the actions to be implemented in this final rule, affording the time necessary for prior notice and opportunity for public comment would prevent NMFS from managing fisheries using the best available science to approach, without exceeding, the ACLs for federally managed species in accordance with the PCGFMP and applicable law. The adjustments to management measures in this document affect commercial fisheries in Washington, Oregon and California. These adjustments to management measures must be implemented in a timely manner, as quickly as possible during the July-August two-month cumulative limit period: To allow LEFG and OA fixed gear fishermen an opportunity to harvest their limits for sablefish without exceeding the ACL north of 36° N. lat.; to allow LEFG fishermen to harvest shortspine thornyead without exceeding the ACL; to allow harvest of shelf rockfish without exceeding the ACL; and to allow LEFG and OA fixed gear fishermen to retain incidental catch of bocaccio, in response to significant recent recruitment events, without exceeding the ACL. These changes in the LEFG and OA fixed gear fisheries continue to allow fishermen opportunities to harvest available stocks while staying within their ACLs. If this rule is not implemented immediately, the public could have incorrect information regarding allowed LEFG and OA trip limits which would cause confusion and be inconsistent with the intent of the Council. It would be contrary to the public interest to delay implementation of these changes until after public notice and comment, because making this regulatory change by August 13, 2013, allows harvest as intended by the Council, consistent with the best scientific information available. These changes allow harvest in fisheries that are important to coastal communities and in a manner that prevents ACLs of overfished and target species from being exceeded.

No aspect of this action is controversial, and changes of this nature were anticipated in the biennial harvest specifications and management measures established for 2013-2014.

Delaying these changes would also keep management measures in place that are not based on the best available information. Such delay would impair achievement of the PCGFMP goals and objectives of managing for appropriate harvest levels while providing for year-round fishing and marketing opportunities.

Accordingly, for the reasons stated above, NMFS finds good cause to waive prior notice and comment and to waive the delay in effectiveness.

List of Subjects in 50 CFR Part 660

Fisheries, Fishing, Indian fisheries.

Dated: August 7, 2013.
James P. Burgess,
Acting Deputy Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

BILLING CODE 3510-22-P

2. Tables 2 (North) and 2 (South) to part 660, subpart E are revised to read as follows:

3. Table 3 (North) and 3 (South) to part 660, subpart F are revised to read as follows:

[FR Doc. 2013-19602 Filed 8-12-13; 8:45 a.m.]

BILLING CODE 3510-22-C